ENVIRONMENTAL PROTECTION AGENCY

40 CFR Part 52

[R04-OAR-2005-NC-0001-200503; FRL-7914-6]

Approval and Promulgation of Implementation Plans—North Carolina: Approval of Revisions to the Visible Emissions Rule

AGENCY: Environmental Protection Agency (EPA).

ACTION: Proposed rule.

SUMMARY: EPA is proposing to approve the Visible Emissions portion of a State Implementation Plan (SIP) revision submitted to EPA, by the State of North Carolina, on December 14, 2004. EPA is proposing to approve the Visible Emissions Rule, in its entirety, as submitted December 14, 2004, and does not intend to act on previous versions of the rule.

DATES: Written comments must be received on or before June 17, 2005.

ADDRESSES: Submit your comments, identified by R04-OAR-2005-NC-0001, by one of the following methods:

1. Federal eRulemaking Portal: http://www.regulations.gov. Follow the on-line instructions for submitting comments.

2. E-mail: spann.jane@epa.gov.

3. Fax: 404-562-9019.

4. Mail: “R04-OAR-2005-NC-0001”, Regulatory Development Section, Air Planning Branch, Air, Pesticides and Toxics Management Division, U.S. Environmental Protection Agency, Region 4, 61 Forsyth Street, SW., Atlanta, Georgia 30303-8960.

5. Hand Delivery: Deliver your comments to: Jane Spann, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to R04-OAR-2005-NC-0001. EPA's policy is that all comments received will be included in the public docket without change, including any personal information provided, unless the comment includes information claimed to be Confidential Business Information (CBI) or other information whose disclosure is restricted by statute. Do not submit information that you consider to be CBI or otherwise protected through regulations.gov, or e-mail. The federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: Some information is not publicly available, i.e., CBI or other information whose disclosure is restricted by statute. Publicly available docket materials are available in hard copy at the Regulatory Development Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding federal holidays.

FOR FURTHER INFORMATION CONTACT: Jane Spann, Regulatory Development Section, Air Planning Branch, Air, Pesticides and Toxics Management Division, U.S. Environmental Protection Agency, Region 4, 61 Forsyth Street, SW., Atlanta, Georgia 30303-8960. The telephone number is (404) 562-9029. Ms. Spann can also be reached via electronic mail at spann.jane@epa.gov.

SUPPLEMENTARY INFORMATION:

I. EPA's Action

A. What Action Is EPA Proposing Today?

EPA is proposing to approve, in its entirety, the Visible Emissions portion of the SIP revision submitted on December 14, 2004, by the State of North Carolina. The language in this submittal replaces all prior versions of rule NCAC 2D .0521 Visible Emissions submitted to EPA.

B. Why Is EPA Proposing This Action?

On April 16, 2001, the North Carolina Department of Environment and Natural Resources submitted to EPA a revision to the North Carolina SIP modifying rule NCAC 2D .0521 Visible Emissions. In a letter dated March 29, 2002, EPA provided comments to North Carolina explaining additional requirements that must be met in order for EPA to approve this rule. These requirements included the submittal of a demonstration proving that such an exemption would not violate the National Ambient Air Quality Standards. On July 10, 2002, North Carolina submitted a demonstration to EPA they believed to address the “worst case” for air quality. A proposed rule and direct final rule were published June 6, 2003, (see 68 FR 33898 and 68 FR 33873) approving the SIP revision submitted by the North Carolina Department of Environment and Natural Resources on April 16, 2001, for the purpose of amending rule NCAC 2D .0521 Visible Emissions. Due to adverse comment, EPA withdrew the direct final rule on August 5, 2003, (see 68 FR 46101). In the interim, on April 4, 2003, the North Carolina Department of Environment and Natural Resources submitted to EPA another SIP revision that included additional changes to the Visible Emissions rule. EPA approved the April 4, 2003, submittal with the exception of the Visible Emissions portion.

On October 14, 2004, and then again on December 14, 2004, the North Carolina Department of Environment and Natural Resources submitted to EPA revisions to the North Carolina SIP. EPA is proposing to approve the version of the NCAC 2D.0521, in its entirety, as submitted December 14, 2004, and does not intend to act on previous versions of the rule.

In the December 14, 2004 submittal, the State of North Carolina requested adoption of new rules and amendments to existing rules including NCAC 2D.0521 Visible Emissions. Today's Federal Register notice addresses only the NCAC 2D .0521 Visible Emissions portion of the December 14, 2004, submittal. Action on the remaining portions of that submittal will be taken in a separate notice.

The purpose of the amendment to rule .0521 is to include the following changes:

1. The existing Visible Emissions rule exempts start-ups made according to procedures approved under rule NCAC 2D .0535. Rule NCAC 2D .0535 includes start-ups, shutdowns and malfunctions. An exemption for shutdowns and malfunctions was added to rule NCAC 2D .0521 to be consistent with the already existing rule, NCAC 2D .0535.

2. The revised rule states that sources subject to a visible emission standard in NCAC 2D .0506, Particulates from Hot Mix Asphalt Plants, shall meet that standard instead of the standard found in this revised NCAC 2D .0521. The revised rule also states that sources subject to a visible emission standard in NCAC 2D .0543, .0544, .1205, .1206 and .1210, shall meet their respective standards instead of the standard found in this revised NCAC 2D .0521. With the exception of NCAC 2D .0506, these rules are not part of the federally approved SIP and are not applicable to today's action.

3. An exemption for engine maintenance and testing controls where visible emissions controls are infeasible was added to rule NCAC 2D .0535. This exemption applies to maintenance and repair on engines in order for diagnostics to be performed. The exemption does not apply, however, to the testing of peak shaving and emergency generators. The rule also states that the Director shall consider emissions, capital cost of compliance, annual incremental compliance cost and environmental and health impacts in deciding if controls are infeasible.

4. The revised rule has changed from stating that sources manufactured after July 1, 1971 “may” be allowed to “shall” be allowed a 40 percent opacity when averaged over a six-minute period and allowed to exceed a 40 percent opacity under certain conditions if the source demonstrates compliance with mass emissions standards and compliance with the National Ambient Air Quality Standards (NAAQS).

5. The revised rule provides sources required to install, operate and maintain continuous opacity monitors (COMs), the ability to comply with the visible emissions rule by allowing these sources to aggregate exceedences on a daily basis rather than being restricted to one exceedence per hour. Specifically, under the new amendment, sources with COMs are allowed no more than 4 six-minute periods to exceed the opacity standard in any one day provided that no excess emissions exempted here cause or contribute to a violation of any mass emission standard or any ambient air quality standard. The new amendment also requires that the percent of excess emissions shall not exceed 0.8 percent of the total operating hours in a calendar quarter. This restriction adds a quarterly cap on exemptions that is more restrictive than the four six minute exemptions per day. Exceedences of the opacity limit greater than 0.8 percent of the total operating hours will be considered a violation of this rule.

On April 15, 2005 North Carolina sent EPA a letter stating that any revised standards issued by North Carolina, pursuant to NCAC 2D .0521, .0606, and .0608, shall be submitted to EPA to be approved as revisions to the federally-enforceable SIP. The letter also states that North Carolina understands that EPA can continue to enforce the current SIP standard until such time as EPA approves any new standard generated pursuant to NCAC 2D .0521, .0606 or .0608 as part of the federally-enforceable SIP.

II. Proposed Action

EPA is proposing to approve, in its entirety, the Visible Emissions portion of a SIP revision submitted to EPA by the State of North Carolina on December 14, 2004.

Statutory and Executive Order Reviews: Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Particulate matter, Reporting and recordkeeping requirements, Sulfur oxides, Volatile organic compounds.

Authority: 42 U.S.C. 7401 et seq.

Dated: May 11, 2005.
J.I. Palmer, Jr.,
Regional Administrator, Region 4.

[FR Doc. 05-9904 Filed 5-17-05; 8:45 am]

BILLING CODE 6560-50-P